DEPARTMENT OF TRANSPORTATION

Federal Aviation Administration

14 CFR Part 21

[Docket No. FAA-2021-0638]

Airworthiness Criteria: Special Class Airworthiness Criteria for the Joby Aero, Inc. Model JAS4-1 Powered-Lift

AGENCY: Federal Aviation Administration (FAA), DOT.

ACTION: Notice of proposed airworthiness criteria; extension of comment period.

SUMMARY: On November 8, 2022, the FAA published in the Federal Register a notice of proposed airworthiness criteria (87 FR 67399) that announced the availability of, and requested comments on, the proposed airworthiness criteria for the Joby Aero, Inc. (Joby) Model JAS4-1 powered-lift. The comment period for this document expires on December 8, 2022. By email dated November 14, 2022, the European Union Aviation Safety Agency (EASA) requested that the FAA extend the public-comment deadline December 22, 2022 to facilitate harmonizing FAA and EASA criteria for powered-lift. The FAA agrees to the request and announces an extension of the comment period to December 22, 2022.

DATES: The comment period is extended from December 8, 2022 to December 22, 2022.

ADDRESSES: Send comments identified by docket number FAA-2021-0638 using any of the following methods:

• Federal eRegulations Portal: Go to http://www.regulations.gov and follow the online instructions for sending your comments electronically.

• Mail: Send comments to Docket Operations, M-30, U.S. Department of Transportation (DOT), 1200 New Jersey Avenue SE, Room W12-140, West Building Ground Floor, Washington, DC, 20590-0001.

• Hand Delivery of Courier: Take comments to Docket Operations in Room W12-140 of the West Building Ground Floor at 1200 New Jersey Avenue SE, Washington, DC, between 8 a.m., and 5 p.m., Monday through Friday, except Federal holidays.

• Fax: Fax comments to Docket Operations at 202-493-2251.

Privacy: The FAA will post all comments it receives, without change, to http://www.regulations.gov, including any personal information the commenter provides. Using the search function of the docket website, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE, Washington, DC, between 9 a.m., and 5 p.m., Monday through Friday, except Federal holidays.

FOR FURTHER INFORMATION CONTACT: William Penzes, Jr., Center for Emerging Concepts and Innovation (CECI) Branch, AIR-650, Policy and Innovation Division, Aircraft Certification Service, Federal Aviation Administration, 950 L'Enfant Plaza SW, Washington, DC 20591; telephone and fax 202-267-1588; email william.b.penzes@faa.gov.

SUPPLEMENTARY INFORMATION:

Comments Invited

The FAA invites interested people to take part in the development of proposed airworthiness criteria for the Joby Model JAS4-1 powered-lift by sending written comments, data, or views. Please identify the Joby Model JAS4-1 and Docket No. FAA-2021-0638 on all submitted correspondence. The most helpful comments reference a specific portion of the airworthiness criteria, explain the reason for a recommended change, and include supporting data. Except for Confidential Business Information as described in the following paragraph, and other information as described in 14 CFR 11.35, the FAA will file in the docket all comments received, as well as a report summarizing each substantive public contact with FAA personnel concerning these proposed airworthiness criteria. Before acting on this proposal, the FAA will consider all comments received on or before the closing date for comments. The FAA will consider comments filed late if it is possible to do so without incurring delay. The FAA may change these airworthiness criteria based on received comments.

Confidential Business Information

Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN.” The FAA will treat such marked submissions as confidential under the FOIA, and they will not be placed in the public docket of this notice. Submissions containing CBI should be sent to the individual listed under “For Further Information Contact.” Any commentary that the FAA receives that is not specifically designated as CBI will be placed in the public docket for this notice.

Extension of the Comment Period

The FAA recognizes that the public will benefit from adequate time to review the notice of proposed airworthiness criteria. Therefore, in accordance with § 11.47(c) of Title 14, Code of Federal Regulations, the FAA is extending the comment period for an additional two weeks to December 22, 2022.

Issued in Washington, DC, on December 1, 2022.
Daniel J. Elgas,
Acting Deputy Director, Policy and Innovation Division, Aircraft Certification Service.

[FR Doc. 2022-26545 Filed 12-6-22; 8:45 am]

BILLING CODE 4910-13-P